ENVIRONMENTAL PROTECTION AGENCY

[FRL-10968-01-R1]

2023 Annual Joint Meeting of the Ozone Transport Commission and the Mid-Atlantic Northeast Visibility Union

AGENCY: Environmental Protection Agency (EPA).

ACTION: Notice; public meeting.

SUMMARY: The United States Environmental Protection Agency (EPA) is announcing the 2023 Annual Joint Meeting of the Ozone Transport Commission (OTC) and the Mid-Atlantic Northeast Visibility Union (MANE-VU). The meeting agenda will include topics regarding reducing ground-level ozone precursors and matters relative to Regional Haze and visibility improvement in Federal Class I areas in a multi-pollutant context.

DATES: The meeting will be held on June 14, 2023, starting at 1:00 p.m. and ending at 3:00 p.m.

Location: Virtual meeting. Further information on the details for the virtual public meeting will be available at http://otcair.org.

FOR FURTHER INFORMATION CONTACT:

For documents and press inquiries contact: Ozone Transport Commission, 89 South St., Suite 602, Boston, MA 02111; (617) 259-2005; email: ozone@otcair.org; website: http://www.otcair.org.

For registration: To register for the virtual meeting, please use the online registration form available at http://otcair.org, or contact the OTC at (617) 259-2005 or by email at ozone@otcair.org.

SUPPLEMENTARY INFORMATION: The Clean Air Act Amendments of 1990 contain Section 184 provisions for the Control of Interstate Ozone Air Pollution. Section 184(a) establishes an Ozone Transport Region (OTR) comprised of the States of Connecticut, Delaware, Maine,¹ Maryland, Massachusetts, New Hampshire, New Jersey, New York, Pennsylvania, Rhode Island, Vermont, parts of Virginia and the District of Columbia. The purpose of the OTC is to address ground-level ozone formation, transport, and control within the OTR.

¹ The geographic scope of Maine within the OTR was subsequently reduced to the portion of Maine encompassing 111 towns and cities comprising the Androscoggin Valley, Down East, and Metropolitan Portland Air Quality Control Regions, commonly referred to as the “Portland and Midcoast Ozone Areas.” 87 FR 7734 (February 10, 2022).

The Mid-Atlantic/Northeast Visibility Union (MANE-VU) was formed at in 2001, in response to EPA's issuance of the Regional Haze rule. MANE-VU's members include Connecticut, Delaware, the District of Columbia, Maine, Maryland, Massachusetts, New Hampshire, New Jersey, New York, Pennsylvania, Rhode Island, Vermont, the Penobscot Indian Nation, the St. Regis Mohawk Tribe along with EPA and Federal Land Managers.

Type of Meeting: Open.

Agenda: Copies of the final agenda will be available from the OTC office (617) 259-2005; by email: ozone@otcair.org or via the OTC website at http://www.otcair.org.

Dated: May 8, 2023.
David Cash,
Regional Administrator, EPA Region 1.

[FR Doc. 2023-10091 Filed 5-10-23; 8:45 am]

BILLING CODE 6560-50-P